DEPARTMENT OF STATE

[Public Notice 5265]

Announcement of Meetings of the International Telecommunication Advisory Committee

Summary: This notice cancels certain previously announced International Telecommunication Advisory Committee meetings originally scheduled to prepare for the International Telecommunication Union World Telecommunication Development Conference.

The International Telecommunication Advisory Committee (ITAC) cancels meetings to prepare for the ITU WTDC-06 previously scheduled for February 2, 9, 16, and 23, 2006.

Dated: January 13, 2006.
Cecily Holiday,
Director, Radiocommunication Affairs, International Communications & Information Policy, Department of State.

[FR Doc. E6-633 Filed 1-19-06; 8:45 am]

BILLING CODE 4710-07-P